DEPARTMENT OF THE INTERIOR

Bureau of Indian Affairs

[190A2100DD/AAKC001030/A0A501010.999900253G]

Indian Gaming; Tribal-State Class III Gaming Compacts and Amendments

AGENCY: Bureau of Indian Affairs, Interior.

ACTION: Notice of address change.

SUMMARY: This notice announces that the address for submission of Tribal-State Class III gaming compacts, amendments, and extensions has changed.

DATES: The new address takes effect on December 27, 2019.

ADDRESSES: The new address for submission of Tribal-State Class III gaming compacts, amendments, and extensions is: Director, Office of Indian Gaming, U.S. Department of the Interior, 1849 C Street NW, Mail Stop 3543, Main Interior Building, Washington, DC 20240.

FOR FURTHER INFORMATION CONTACT: Ms. Paula L. Hart, Director, Office of Indian Gaming, Office of the Assistant Secretary—Indian Affairs, (202) 219-4066.

SUPPLEMENTARY INFORMATION: The Office of Indian Gaming has moved to the new Mail Stop listed in the ADDRESSES section of this notice. Please submit any Tribal-State Class III gaming compact, amendment or extension under 25 CFR 293.9 to the new address from this date forward to ensure receipt by the Office of Indian Gaming to begin the 45-day timeline under 25 CFR 293.12.

Dated: December 12, 2019.
Tara Sweeney,
Assistant Secretary—Indian Affairs.

[FR Doc. 2019-27988 Filed 12-26-19; 8:45 am]

BILLING CODE 4337-15-P